ENVIRONMENTAL PROTECTION AGENCY

[EPA-HQ-OECA-2008-0284; FRL-8929-1]

Agency Information Collection Activities; Submission to OMB for Review and Approval; Comment Request; NESHAP for Municipal Solid Waste Landfills (Renewal), EPA ICR Number 1938.04, OMB Control Number 2060-0505

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR, which is abstracted below, describes the nature of the collection and the estimated burden and cost.

DATES: Additional comments may be submitted on or before August 10, 2009.

ADDRESSES: Submit your comments, referencing docket ID number EPA-HQ-OECA-2008-0284, to (1) EPA online using www.regulations.gov (our preferred method), or by e-mail to docket.oeca@epa.gov, or by mail to: EPA Docket Center (EPA/DC), Environmental Protection Agency, Enforcement and Compliance Docket and Information Center, mail code 28221T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division, Office of Compliance, Mail Code 2223A, Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On May 30, 2008 (73 FR 31088), EPA sought comments on this ICR pursuant to 5 CFR 1320.8(d). EPA received no comments. Any additional comments on this ICR should be submitted to EPA and OMB within 30 days of this notice.

EPA has established a public docket for this ICR under docket ID number EPA-HQ-OECA-2008-0284, which is available for public viewing online at http://www.regulations.gov, or in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov to submit or view public comments, to access the index listing of the contents of the docket, and to access those documents in the docket that are available electronically. Once in the system, select “docket search,” then key in the docket ID number identified above. Please note that EPA's policy is that public comments, whether submitted electronically or on paper, will be made available for public viewing at http://www.regulations.gov, as EPA receives them and without change, unless the comment contains copyrighted material, Confidential Business Information (CBI), or other information whose public disclosure is restricted by statute. For further information about the electronic docket, go to www.regulations.gov.

Title: NESHAP for Municipal Solid Waste Landfills (Renewal).

ICR Numbers: EPA ICR Number 1938.04, OMB Control Number 2060-0505.

ICR Status: This ICR is scheduled to expire on August 31, 2009. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: The National Emission Standards for Hazardous Air Pollutants (NESHAP) for Municipal Solid Waste (MSW) Landfills were proposed on November 7, 2000, and promulgated on January 16, 2003. These standards apply to each existing and new municipal solid waste (MSW) landfills. This subpart applies to: An MSW landfill that has accepted waste since November 8, 1987, or has additional capacity for waste deposition; a major source, collocated with a major source; and an area source landfill with a design capacity equal to or greater than 2.5 million megagrams (Mg) and 2.5 million cubic meters (m³) and has estimated uncontrolled emissions equal to or greater than 50 megagrams per year (Mg/yr) of nonmethane organic compounds (NMOC); or an MSW landfill that has additional capacity for waste deposition, that includes a bioreactor and is not permanently closed as of January 16, 2003.

Owners or operators of the affected facilities would be required to submit semiannual compliance reports for control device operating parameters, prepare a startup, shutdown, and malfunction (SSM) plan, and prepare semiannual SSM reports.

Any owner or operator subject to the provisions of this subpart must maintain a file of these measurements and retain the file for at least five years following the collection of such measurements, maintenance reports, and records. All reports are sent to the delegated state or local authority. In the event that there is no such delegated authority, the reports are sent directly to the EPA regional office.

Burden Statement: The annual public reporting and recordkeeping burden for this collection of information is estimated to average five hours per response. Burden means the total time, effort, or financial resources expended by persons to generate, maintain, retain, or disclose and provide information either to or for a Federal agency. This includes the time needed to review instructions, develop, acquire, install, and utilize technology and systems for the purposes of collecting, validating, and verifying information, processing and maintaining information, and disclosing and providing information. All existing ways will have to adjust to comply with any previously applicable instructions and requirements that have subsequently changed; train personnel to be able to respond to a collection of information; search data sources; complete and review the collection of information; and transmit or otherwise disclose the information.

Respondents/Affected Entities: Owners and operators of each municipal solid waste landfill.

Estimated Number of Respondents: 1,121.

Frequency of Response: On occasion, annually and semiannually.

Estimated Total Annual Hour Burden: 18,234.

Estimated Total Annual Cost: $1,489,039, which includes $1,472,039 in labor costs, $17,000 in operation and maintenance (O&M) costs, and no capital/startup costs.

Changes in the Estimates: There is no change in the labor hours in this ICR as compared to the previous ICR. This is due to two considerations: (1) The regulations have not changed over the past three years and are not anticipated to change over the next three years; and (2) the growth rate for the industry is very low, negative or nonexistent, so there is no significant change in the overall burden. It should be noted that there is a change in the labor cost compared to the previous ICR. The change is due to a minor calculation error. This ICR reflects the correction and updates the labor cost figure.

The capital/startup costs are not included because this NESHAP does not require MSW landfills to purchase or operate additional control equipment or monitoring devices.

Dated: July 2, 2009.
John Moses,
Director, Collection Strategies Division.

[FR Doc. E9-16269 Filed 7-8-09; 8:45 am]

BILLING CODE 6560-50-P